FEDERAL COMMUNICATIONS COMMISSION

[MD Docket No. 00-58; FCC 00-240]

Assessment and Collection of Regulatory Fees for Fiscal Year 2000

AGENCY: Federal Communications Commission.

ACTION: Notice.

SUMMARY: The Commission is revising its Schedule of Regulatory Fees in order to recover an amount of $185,754,000 in regulatory fees that Congress has required it to collect for Fiscal Year 2000. This summary of the FCC's FY 2000 Regulatory Fees decision will be followed by publication in the Federal Register of the full text at a later date. The dates for collecting regulatory fees will be September 11, 2000 through September 20, 2000.

DATES: Effective September 10, 2000.

FOR FURTHER INFORMATION CONTACT: Terry Johnson, Office of Managing Director at (202) 418-0445, or Roland Helvajian, Office of Managing Director at (202) 418-0444.

SUPPLEMENTARY INFORMATION: The Communications Act of 1934 (“Act”), as amended, provides for the annual assessment and collection of regulatory fees. For Fiscal Year 2000, changes to the Schedule of Regulatory Fees will be made per section 9(b)(2) of the Act. These revisions will further the National Performance Review goals of reinventing Government by requiring beneficiaries of Commission services to pay for such services.

As mandated by Congress, the FY 2000 Regulatory Fees increased by $13,231,000, or approximately 7.67 percent, over the amount Congress required the Commission to collect in FY 1999. We are, therefore, revising the Schedule of Regulatory Fees to reflect this additional amount that was mandated by Congress. For FY 2000, as in FY 1999, the revenue requirements for each category were adjusted on a proportional basis, consistent with Section 9(b)(2) of the Act, to obtain a sum total of the amount Congress required the Commission to collect. As in FY 1999, none of the fee increases in FY 2000 exceed 25 percent. In brief, the adopted FY 2000 Regulatory Fee schedule will assess a fee on Comsat's INTELSAT facilities; incorporate the use of a new form which would change the basis for computing the fee for Interstate Telephone Service Providers; and continue to assess a CMRS messaging fee for SMR systems with less than 10 MHz bandwidth.

Federal Communications Commission.
Magalie Roman Salas,
Secretary.

[FR Doc. 00-17501 Filed 7-10-00; 8:45 am]

BILLING CODE 6712-01-P